DEPARTMENT OF THE INTERIOR

Fish and Wildlife Service

Endangered and Threatened Species Permit Application

AGENCY: Fish and Wildlife Service, Interior.

ACTION: Notice of receipt of application.

The following applicant has applied for a permit to conduct certain activities with endangered species. This notice is provided pursuant to section 10(c) of the Endangered Species Act of 1973, as amended (16 U.S.C. 1531, et seq.).

Permit Number TE839777

Applicant: Don R. Helms, Bellevue, Iowa.

The applicant requests a permit pursuant to 50 CFR 17.22 to take (capture, handle and release) the Topeka shiner (Notropis topeka) throughout Iowa. Research activities are proposed for studies to identify populations of Topeka shiners, develop methods to minimize or avoid project related impacts to those populations, and to identify new populations. The scientific research is aimed at enhancement of survival of the species in the wild.

Written data or comments should be submitted to the Regional Director, U.S. Fish and Wildlife Service, Ecological Services Operations, 1 Federal Drive, Fort Snelling, Minnesota 55111-4056, and must be received within 30 days of the date of this publication.

Documents and other information submitted with this application are available for review by any party who requests a copy of such documents from the following office within 30 days of the date of publication of this notice: U.S. Fish and Wildlife Service, Ecological Services Operations, 1 Federal Drive, Fort Snelling, Minnesota 55111-4056, peter_fasbender@fws.gov, telephone (612) 713-5343, or FAX (612) 713-5292.

Dated: July 16, 2002.
Charlie Wooley,
Assistant Regional Director, Ecological Services, Region 3, Fort Snelling, Minnesota.

[FR Doc. 02-19163 Filed 7-29-02; 8:45 am]

BILLING CODE 4310-55-P